ENVIRONMENTAL PROTECTION AGENCY

[FRL-8209-4]

Clean Water Act Section 303(d): Availability of List Decisions

AGENCY: Environmental Protection Agency (EPA).

ACTION: Notice of Availability.

SUMMARY: This action announces the availability of and requests public comment on EPA decisions identifying water quality limited segments and associated pollutants in Massachusetts to be listed pursuant to Clean Water Act section 303(d)(2). Section 303(d)(2) requires that states submit and EPA approve or disapprove lists of waters for which existing technology-based pollution controls are not stringent enough to attain or maintain state water quality standards and for which total maximum daily loads (TMDLs) must be prepared.

On June 21, 2006, EPA partially approved and partially disapproved Massachusetts' 2004 submittal. Specifically, EPA approved Massachusetts' listing of 734 water body segments, associated pollutants and priority rankings. EPA disapproved Massachusetts' decision not to list ninety (90) water quality limited segments impaired for mercury. EPA identified these additional water body segments, pollutants, and priority rankings for inclusion on the 2004 section 303(d) list.

EPA is providing the public the opportunity to review its decision to add waters and pollutants to Massachusetts' 2004 section 303(d) list, as required by EPA's Public Participation regulations. EPA will consider public comments in reaching its final decision on the additional water bodies and pollutants identified for inclusion on Massachusetts' final list.

DATES: Comments must be submitted to EPA on or before September 13, 2006.

ADDRESSES: Comments on the proposed decisions should be sent to Michael Hill, U.S. Environmental Protection Agency, EPA New England Regional Office, One Congress Street, Suite 1100 (CWQ), Boston, MA 02114-2023, telephone (617) 918-1398, e-mail address hill.michael@epa.gov. Oral comments will not be considered.

FOR FURTHER INFORMATION CONTACT: Michael Hill at (617) 918-1398 or hill.michael@epa.gov. Copies of the proposed decisions explaining EPA's rationale for its partial approval and partial disapproval of Massachusetts' submittal can be obtained from the EPA Web site at http://www.epa.gov/ne/eco/tmdl/impairedh2o.html or by writing or calling Mr. Hill at the above address. Underlying documentation comprising the record for these decisions is available for public inspection at the above address.

SUPPLEMENTARY INFORMATION: Section 303(d) of the Clean Water Act (CWA) requires that each state identify those waters for which existing technology-based pollution controls are not stringent enough to attain or maintain state water quality standards. For those waters, states are required to establish TMDLs according to a priority ranking.

EPA's Water Quality Planning and Management regulations include requirements implementing section 303(d) of the CWA (40 CFR 130.7). The regulations require states to identify every two years water quality limited waters still requiring TMDLs. The lists of waters still needing TMDLs must also include priority rankings and must identify the waters targeted for TMDL development during the next two years (40 CFR 130.7(d)).

Consistent with EPA's regulations, Massachusetts submitted to EPA its final listing decisions under section 303(d)(2) on April 19, 2005. On June 21, 2006, EPA approved Massachusetts' listing of 734 water body segments and associated priority rankings. EPA disapproved Massachusetts' decision not to include 90 water bodies impaired for mercury. EPA identified these additional waters and pollutants along with priority rankings for inclusion on the 2004 section 303(d) list. EPA solicits public comment on its decision to include the 90 lakes and ponds impaired for mercury on Massachusetts' 2004 section 303(d) list.

Dated: July 24, 2006.
Kenneth Moraff,
Deputy Director, Office of Ecosystem Protection, New England Regional Office.

[FR Doc. E6-13284 Filed 8-11-06; 8:45 am]

BILLING CODE 6560-50-P